DEPARTMENT OF COMMERCE

National Oceanic and Atmospheric Administration

Agency Information Collection Activities; Submission to the Office of Management and Budget (OMB) for Review and Approval; Comment Request; Aleutian Islands Pollock Fishery Requirements

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 5, 2024, during a 60-day comment period. This notice allows for an additional 30 days for public comments.

Agency: National Oceanic and Atmospheric Administration, Commerce.

Title: Aleutian Islands Pollock Fishery Requirements.

OMB Control Number: 0648-0513.

Form Number(s): None.

Type of Request: Regular submission (extension of a current information collection).

Number of Respondents: 1.

Average Hours per Response: 16 hours.

Total Annual Burden Hours: 16 hours.

Needs and Uses: This is a request for renewal of an approved information collection. The National Marine Fisheries Service, Alaska Regional Office (NMFS AKR), is the sponsor of this information collection, which contains the requirements for the annual participant letter for the Aleutian Islands pollock fishery. No changes were made to this collection other than updating the hourly wage rate to use the most current rate available and to improve consistency in the rates used for the same respondent types in NMFS Alaska Region information collections.

NMFS AKR manages the groundfish fisheries in the exclusive economic zone of the Bering Sea and Aleutian Islands management area under the Fishery Management Plan for Groundfish of the Bering Sea and Aleutian Islands Management Area (FMP). The Magnuson-Stevens Fishery Conservation and Management Act (16 U.S.C. 1801 et seq.) authorizes the North Pacific Fishery Management Council to prepare and amend fishery management plans for any fishery in waters under its jurisdiction.

Amendment 82 to the FMP established a framework for the management of the Aleutian Islands subarea (AI) directed pollock fishery. Amendment 82 implemented a provision of the Consolidated Appropriations Act of 2004 (Pub. L. 108-199, Sec. 803) that requires the AI directed pollock fishery be allocated to The Aleut Corporation for the purpose of economic development in Adak, Alaska. The Aleut Corporation is identified in Public Law 108-199 as a business incorporated pursuant to the Alaska Native Claims Settlement Act (43 U.S.C. 1601 et seq.). The Aleut Corporation's AI pollock fishery is set up so that harvesting pollock in the AI directed pollock fishery and processing pollock taken in the AI directed pollock fishery are authorized only for those harvesters and processors that are selected by The Aleut Corporation and approved by the NMFS Regional Administrator.

The purpose of this collection is for NMFS to obtain the list of vessels and processors selected by The Aleut Corporation to harvest and process its annual AI pollock allocation. NMFS uses this information to manage the AI pollock fishery. Without this information, NMFS would not know the participants selected by The Aleut Corporation and could not determine harvest rates, which may result in allocations being exceeded.

The Aleut Corporation is required by Federal regulations at 50 CFR 679.4(m)(2) to provide its selected harvesters and processors to NMFS for approval. The Aleut Corporation must submit its selections to NMFS each year at least 14 days before harvesting pollock or processing pollock in the AI directed pollock fishery. The information submitted by The Aleut Corporation consists of the names of the harvesting vessels and processors it has selected, the Federal fisheries permit numbers or Federal processor permit numbers of these participants, and the fishing year for which approval is requested. No information is submitted in years that the Aleut Corporation will not be harvesting or processing pollock in the AI directed fishery.

On approval, NMFS sends The Aleut Corporation a letter that includes a list of the approved participants. A copy of this letter must be retained on board each participating vessel and on site each shoreside processor at all times.

More information on the AI pollock fishery is provided on the NMFS Alaska Region website at https://www.fisheries.noaa.gov/alaska/sustainable-fisheries/aleutian-islands-pollock-fishery-alaska.

Affected Public: Business or other for-profit organizations.

Frequency: Annually.

Respondent's Obligation: Required to Obtain or Retain Benefits.

Legal Authority: Consolidated Appropriations Act of 2004; Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0513.

Sheleen Dumas,
Departmental PRA Compliance Officer, Office of the Under Secretary for Economic Affairs, Commerce Department.

[FR Doc. 2025-05347 Filed 3-27-25; 8:45 am]

BILLING CODE 3510-22-P